DEPARTMENT OF TRANSPORTATION

Federal Transit Administration

Transfer of Federally Assisted Facility

AGENCY: Federal Transit Administration (FTA), United States Department of Transportation (USDOT).

ACTION: Notice of Intent (NOI) to transfer federally assisted land or facility.

SUMMARY: Federal public transportation law delegated to the Federal Transit Administrator permits the Administrator of the Federal Transit Administration (FTA) to authorize a recipient of FTA funds to transfer land or a facility to a public body for any public purpose with no further obligation to the Federal Government (the Government) if, among other things, no Federal agency is interested in acquiring the asset for Federal use. Accordingly, FTA is issuing this Notice to advise Federal agencies that the Northeast Illinois Regional Commuter Railroad Corporation a/k/a Metra (Metra) intends to transfer the land and building located at 16912 and 16901 Paulina Avenue (respectively), Hazel Crest, Illinois (Subject Property) to the Village of Hazel Crest (Village). Metra used the location as a Passenger Assistance Link building and storage facility from 1987 to the present (33 years). Metra has determined it no longer needs the building for public transportation purposes. The Village plans to utilize the Subject Property as a job training center for the community. The Village hopes to partner with another unit of government and/or local college to equip the building with technology equipment and staff it with career development experts who would be dedicated to helping career seekers find employment in the region.

DATES: Any Federal agency interested in acquiring the facility must notify the FTA Region V office of its interest no later than March 27, 2020.

ADDRESSES: Interested parties should notify the Regional Office by writing to Kelley Brookins, Regional Administrator, Federal Transit Administration, 200 West Adams Street, Suite 320, Chicago, IL 60606.

FOR FURTHER INFORMATION CONTACT: Kathryn Loster, Regional Counsel, (312) 353-3869.

SUPPLEMENTARY INFORMATION:

Background

Federal public transportation law (49 U.S.C. 5334(h)) provides guidance on the transfer of capital assets. Specifically, if a recipient of FTA assistance decides an asset acquired, at least in part, with assistance under 49 U.S.C. Chapter 53 is no longer needed for the purpose for which it was acquired, the Secretary of Transportation may authorize the recipient to transfer the asset to a local governmental authority to be used for a public purpose with no further obligation to the Government. 49 U.S.C. 5334(h)(1).

Determinations

The FTA Administrator may authorize a transfer for a public purpose other than mass transportation only if the FTA Administrator decides:

(A) The asset will remain in public use for at least 5 years after the date the asset is transferred;

(B) There is no purpose eligible for assistance under Chapter 53 of title 49, United States Code, for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This Notice implements the requirements of 49 U.S.C. 5334(h)(1)(D). Accordingly, FTA hereby provides notice of the availability of the Subject Property further described below. Any Federal agency interested in acquiring the Subject Property should promptly notify the FTA. If no Federal agency is interested in acquiring the Subject Property, FTA will make certain that the other requirements specified in 49 U.S.C. 5334(h)(1)(A) through (C) are met before permitting the asset to be transferred.

Additional Description of Land or Facility

The Subject Property is recognized with the Parcel Identification Numbers 29-30-221-037 and 29-30-222-001. It is made up of a combined total of 0.81 acres and improved with a masonry structure that is approximately 17,000 square feet. The northern most section of the building is finished as office space, while the middle and southern sections are unfinished with exposed masonry walls. The middle section of the building has high ceilings and an overhead garage door.

The southern section has a more typical ceiling height and access doors. The building is structurally sound, but in poor condition primarily because the roof needs to be repaired. The Subject Property is currently vacant. Public utilities include gas, electric, and water.

(Authority: 49 U.S.C. 5334(h))

K. Jane Williams,
Acting Administrator.

[FR Doc. 2020-03765 Filed 2-25-20; 8:45 am]

BILLING CODE P